DEPARTMENT OF ENERGY

Federal Energy Regulatory Commission

Combined Notice of Filings

Take notice that the Commission has received the following Natural Gas Pipeline Rate and Refund Report filings:

Filings Instituting Proceedings

Docket Numbers: CP15-488-000.

Applicants: Transcontinental Gas Pipe Line Company, LLC.

Description: Transcontinental Gas Pipe Line Company, LLC submits an application for the abandonment of Rate Schedule FT Firm transportation service provided to UGI Penn Natural Gas, Inc.

Filed Date: 5/07/15.

Accession Number: 20150507-5173.

Comments Due: 5 p.m. ET 5/28/15.

Docket Numbers: CP15-335-000.

Applicants: Texas Gas Transmission, LLC.

Description: Joint Application of Texas Gas Transmission, LLC and Gulf South Pipeline Company, LP for Authorization to Abandon Leased Capacity and to Reacquire the Capacity.

Filed Date: 4/30/15.

Accession Number: 20150430-5183.

Comments Due: 5 p.m. ET 5/28/15.

Docket Numbers: RP10-729-000.

Applicants: Portland Natural Gas Transmission System.

Description: Compliance filing per 154.501: Refund Report.

Filed Date: 4/15/15.

Accession Number: 20150415-5136.

Comments Due: 5 p.m. ET 5/27/15.

Docket Numbers: RP15-902-000.

Applicants: Black Marlin Pipeline Company.

Description: Black Marlin Pipeline Company's 2014 Cash-Out Report.

Filed Date: 4/21/15.

Accession Number: 20150421-5233.

Comments Due: 5 p.m. ET 5/27/15.

Docket Numbers: RP15-903-000.

Applicants: Discovery Gas Transmission LLC.

Description: Imbalance Cash-out Report for 2014 Activity for Discovery Gas Transmission LLC.

Filed Date: 4/23/15.

Accession Number: 20150423-5193.

Comments Due: 5 p.m. ET 5/27/15.

Docket Numbers: RP15-979-000.

Applicants: Rager Mountain Storage Company LLC.

Description: Petition for Declaratory Order [including Pro Forma sheets] of Rager Mountain Storage Company LLC.

Filed Date: 5/8/15.

Accession Number: 20150508-5215.

Comments Due: 5 p.m. ET 6/8/15.

Docket Numbers: RP15-980-000.

Applicants: Gulf South Pipeline Company, LP.

Description: § 4(d) rate filing per 154.204: Cap Rel Neg Rate Agmt (EOG 34687 to Trans LA 44689) to be effective 5/12/2015.

Filed Date: 5/11/15.

Accession Number: 20150511-5089.

Comments Due: 5 p.m. ET 5/26/15.

Docket Numbers: RP15-981-000.

Applicants: Gulf South Pipeline Company, LP.

Description: § 4(d) rate filing per 154.204: Cap Rel Neg Rate Agmt (Encana 37663 to Texla 44653) to be effective 5/4/2015.

Filed Date: 5/11/15.

Accession Number: 20150511-5090.

Comments Due: 5 p.m. ET 5/26/15.

Docket Numbers: RP15-982-000.

Applicants: Gulf South Pipeline Company, LP.

Description: § 4(d) rate filing per 154.204: Amendment to Neg Rate Agmt (BG 39431-3) to be effective 5/5/2015.

Filed Date: 5/11/15.

Accession Number: 20150511-5091.

Comments Due: 5 p.m. ET 5/26/15.

Docket Numbers: RP15-983-000.

Applicants: Gulf South Pipeline Company, LP.

Description: § 4(d) rate filing per 154.204: Amendments to Neg Rate Agmts (Southern 41616-1, 41617-1) to be effective 5/1/2015.

Filed Date: 5/11/15.

Accession Number: 20150511-5092.

Comments Due: 5 p.m. ET 5/26/15.

Docket Numbers: RP15-986-000.

Applicants: Equitrans, L.P.

Description: § 4(d) rate filing per 154.204: Negotiated Capacity Release Agreeement—5/14/2015 to be effective 5/14/2015.

Filed Date: 5/14/15.

Accession Number: 20150514-5138.

Comments Due: 5 p.m. ET 5/26/15.

Docket Numbers: RP15-987-000.

Applicants: Transcontinental Gas Pipe Line Company.

Description: § 4(d) rate filing per 154.204: Non-Conforming Agreements_NEC to be effective 5/15/2015.

Filed Date: 5/15/15.

Accession Number: 20150515-5003.

Comments Due: 5 p.m. ET 5/27/15.

Docket Numbers: RP15-988-000.

Applicants: Transcontinental Gas Pipe Line Company.

Description: § 4(d) rate filing per 154.204: Non-Conforming Agreements_Rockaway to be effective 5/15/2015.

Filed Date: 5/15/15.

Accession Number: 20150515-5004.

Comments Due: 5 p.m. ET 5/27/15.

Docket Numbers: RP15-989-000.

Applicants: Transcontinental Gas Pipe Line Company.

Description: § 4(d) rate filing per 154.204: Update List of Non-Confoming Service Agreements (NEC_Rockaway) to be effective 5/15/2015.

Filed Date: 5/15/15.

Accession Number: 20150515-5063.

Comments Due: 5 p.m. ET 5/27/15.

Docket Numbers: RP15-990-000.

Applicants: Tennessee Gas Pipeline Company, L.L.C.

Description: § 4(d) rate filing per 154.204: Settlement—2015—pro forma to be effective 11/1/2015.

Filed Date: 5/15/15.

Accession Number: 20150515-5084.

Comments Due: 5 p.m. ET 5/22/15.

Docket Numbers: RP15-991-000.

Applicants: Twin Eagle Resource Management, LLC, Enserco Energy LLC.

Description: Joint Petition of Twin Eagle Resource Management, LLC and Enserco Energy LLC for Temporary Waiver of Waiver of Capacity Release Regulations and Policies, and Request for Expedited Action.

Filed Date: 5/15/15.

Accession Number: 20150515-5128.

Comments Due: 5 p.m. ET 5/22/15.

Docket Numbers: RP15-992-000.

Applicants: Texas Eastern Transmission, LP.

Description: § 4(d) rate filing per 154.204: EQT Energy 893660011-1-2015 Negotiated Rate to be effective 11/1/2015.

Filed Date: 5/18/15.

Accession Number: 20150518-5144.

Comments Due: 5 p.m. ET 6/1/15.

Any person desiring to intervene or protest in any of the above proceedings must file in accordance with Rules 211 and 214 of the Commission's Regulations (18 CFR 385.211 and § 385.214) on or before 5:00 p.m. Eastern time on the specified comment date. Protests may be considered, but intervention is necessary to become a party to the proceeding.

Filings in Existing Proceedings

Docket Numbers: RP15-460-001.

Applicants: Texas Eastern Transmission, LP.

Description: Compliance filing per 154.203: TETLP Mainline-Lateral Fuel RP15-460 Compliance Filing to be effective 12/31/9998.

Filed Date: 4/16/15.

Accession Number: 20150416-5216.

Comments Due: 5 p.m. ET 5/21/15.

Docket Numbers: RP15-983-001.

Applicants: Gulf South Pipeline Company, LP.

Description: Tariff Amendment per 154.205(b): Amendment to Filing in Docket No. RP15-983-000 to be effective 5/1/2015.

Filed Date: 5/13/15.

Accession Number: 20150513-5157.

Comments Due: 5 p.m. ET 5/26/15.

Any person desiring to protest in any of the above proceedings must file in accordance with Rule 211 of the Commission's Regulations (18 CFR 385.211) on or before 5:00 p.m. Eastern time on the specified comment date.

The filings are accessible in the Commission's eLibrary system by clicking on the links or querying the docket number.

eFiling is encouraged. More detailed information relating to filing requirements, interventions, protests, service, and qualifying facilities filings can be found at: http://www.ferc.gov/docs-filing/efiling/filing-req.pdf. For other information, call (866) 208-3676 (toll free). For TTY, call (202) 502-8659.

Dated: May 18, 2015.
Nathaniel J. Davis, Sr.,
Deputy Secretary.

[FR Doc. 2015-12535 Filed 5-22-15; 8:45 am]

BILLING CODE 6717-01-P